DEPARTMENT OF ENERGY

Federal Energy Regulatory Commission

[Docket No. CP06-66-000]

Port Barre Investments, L.L.C. (d/b/a Bobcat Gas Storage); Notice of Intent To Prepare an Environmental Assessment for the Proposed Bobcat Gas Storage Project and Request for Comments on Environmental Issues

February 28, 2006.

The staff of the Federal Energy Regulatory Commission (FERC or Commission) will prepare an environmental assessment (EA) that will discuss the environmental impacts of a proposal by Port Barre Investments, L.L.C. (d/b/a Bobcat Gas Storage (Bobcat)) to construct a new salt cavern natural gas storage facility in St. Landry Parish, Louisiana.¹ The Bobcat Gas Storage Project would provide approximately 12 billion cubic feet of working natural gas storage capacity, capable of injecting gas at maximum rates of up to 900 million cubic feet per day (MMcfd) and delivering gas at maximum rates of up to 1,200 MMcfd. The facilities would include two solution mined storage caverns, a 37,880 horsepower (hp) compressor station, a leaching plant, brine disposal facilities, approximately 18.1 miles of pipeline, and metering and regulating stations.

¹ Bobcat's application was filed with the Commission under section 7 of the Natural Gas Act and Part 157 of the Commission's regulations.

This notice announces the opening of the scoping period that will be used to gather environmental input from the public and interested agencies on the project. Please note that the scoping comments are requested by March 31, 2006.

This notice is being sent to potentially affected landowners; Federal, state, and local government agencies; elected officials; environmental and public interest groups; Native American Tribes, other interested parties; local libraries and newspapers. State and local government representatives are asked to notify their constituents of this planned project and encourage them to comment on their areas of concern.

If you are a landowner receiving this notice, you may be contacted by a Bobcat company representative about the acquisition of an easement to construct, operate, and maintain the proposed facilities. The company would seek to negotiate a mutually acceptable agreement. However, if the project is approved by the Commission, that approval conveys with it the right of eminent domain. Therefore, if easement negotiations fail to produce an agreement, the natural gas company could initiate condemnation proceedings in accordance with state law.

A fact sheet prepared by the FERC entitled “An Interstate Natural Gas Facility On My Land? What Do I Need To Know?” is available for viewing on the FERC Web site (http://www.ferc.gov). This fact sheet addresses a number of typically asked questions, including the use of eminent domain and how to participate in the Commission's proceedings.

Summary of the Proposed Project

Bobcat proposes to construct, own, and operate a high-deliverability natural gas storage project on an 84-acre parcel of land leased by Bobcat, located about 2.2 miles east of the Town of Port Barre, Louisiana. Two caverns would be solution mined in the Port Barre Salt Dome in four phases, over an approximate five-year time span. The project would include construction of the following:

(1) Gas Storage Site, including:

• Eight (8) 4,735 horsepower compressors, dehydration and appurtenant facilities (Bobcat Compressor Station);

• A leaching plant;

• 0.5 mile of non-jurisdictional electric distribution line;

• 2 freshwater and 2 cavern wells; and

• 0.5 mile of 16-inch-diameter freshwater pipeline.

(2) Brine Disposal Site, including three brine disposal wells;

(3) 1.5 miles of 16-inch-diameter brine disposal pipeline;

(4) 16.1 miles of 24-inch-diameter natural gas pipeline and appurtenances; and

(5) 5 interstate and 1 intrastate pipeline system interconnects, each with a regulator/meter station.

The location of the project facilities is shown in Appendix 1.²

² The appendices referenced in this notice are not being printed in the Federal Register. Copies of all appendices, other than appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of the proposed facilities would require about 261.9 acres of land. Following construction, about 104.3 acres would be maintained as new aboveground facility sites and right-of-way. The remaining 157.6 acres of land would be restored and allowed to revert to its former use.

The EA Process

We ³ are preparing this EA to comply with the National Environmental Policy Act (NEPA) which requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA.

³ ”We”, “us”, and “our” refer to the environmental staff of the Office of Energy Projects (OEP).

By this notice, we are also asking Federal, state, and local agencies with jurisdiction and/or special expertise with respect to environmental issues to formally cooperate with us in the preparation of the EA. Agencies that would like to request cooperating status should follow the instructions for filing comments below.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

Currently Identified Environmental Issues

In the EA, we will discuss impacts that could occur as a result of the construction and operation of the project. We will also evaluate reasonable alternatives to the proposed project or portions of the project.

We have already identified several issues that we think deserve attention based on a preliminary review of the proposed facilities and the environmental information provided by Bobcat. This preliminary list of issues may be changed based on your comments and our analysis.

Project-related impact on:

• Noise sensitive areas (i.e., residences) located in proximity to construction operations and the proposed compressor facility;

• 12.0 acres of wetlands;

• 171.5 acres of agricultural land;

• 3 federally-listed threatened and endangered species potentially in the project area;

• 7 waterbody crossings; and

• The Chicot sole source aquifer.

Public Participation

You can make a difference by providing us with your specific comments or concerns about the project. By becoming a commentor, your concerns will be addressed in the EA and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 3.

• Reference Docket Number CP06-66-000.

• Mail your comments so that they will be received in Washington, DC on or before March 31, 2006.

Please note that the Commission strongly encourages electronic filing of any comments or interventions or protests to this proceeding. See 18 CFR 385.2001(a)(1)(iii) and the instructions on the Commission's Web site at http://www.ferc.gov under the “e-Filing” link and the link to the User's Guide. Before you can file comments, you will need to create and account which can be created online.

Site Visit

On March 21, 2006, the OEP staff will conduct a pre-certification site visit of the planned Bobcat Gas Storage Project. We will view the proposed facility locations and pipeline route. Examination will be by automobile and on foot. Representatives of Bobcat will be accompanying the OEP staff.

All interested parties may attend. Those planning to attend must provide their own transportation and should meet at 9 a.m. (CST) in the lobby of the Holiday Inn, 5696 I-49 North Service Road, Opelousas, Louisiana on March 21, 2006.

For additional information, please contact the Commission's Office of External Affairs at 1-866-208-FERC (3372).

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214, see Appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

If you wish to remain on our environmental mailing list, please return the Information Request Form included in Appendix 2. If you do not return this form, you will be removed from our mailing list.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TYY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. E6-3194 Filed 3-7-06; 8:45 am]

BILLING CODE 6717-01-P